NATIONAL SCIENCE FOUNDATION

Sunshine Act Meetings

FEDERAL REGISTER CITATION OF PREVIOUS ANNOUNCEMENT: The meeting was noticed on May 5, 2023, at 88 FR 29167.

PREVIOUSLY ANNOUNCED TIME AND DATE OF THE MEETING:

Tuesday, May 9, 2023, from 8:30 a.m.-3:55 p.m. EDT.

Wednesday, May 10, 2023, from 8:30 a.m.-3:00 p.m. EDT.

CHANGES IN THE MEETING:

Change 1: Item two in the closed session on May 9, 2023, at 3:25-3:55 p.m. originally read:

• NSF Engines, Review/Award Process.

That item now reads:

• NSF Engines Update and Portfolio Construction Process.

Change 2: Item six in the open session on May 10, 2023, at 10:40-11:55 a.m. originally read:

• NSB-NSF Merit Review Commission Report Vote on Mid-scale Research Infrastructure Track 2 Portfolio Award.

That item now reads:

• NSB-NSF Merit Review Commission Report.

Items seven through nine in that session were included in error and are deleted.

CONTACT PERSON FOR MORE INFORMATION: Point of contact for this meeting is: Chris Blair, cblair@nsf.gov, 703/292-7000.

Christopher Blair,
Executive Assistant to the National Science Board Office.

[FR Doc. 2023-10130 Filed 5-9-23; 11:15 am]

BILLING CODE 7555-01-P